DEPARTMENT OF VETERANS AFFAIRS

Chiropractic Advisory Committee; Notice of Meeting

The Department of Veterans Affairs (VA) gives notice under Public Law 92-463 (Federal Advisory Committee Act) that the Chiropractic Advisory Committee will hold its first meeting on Monday, September 23, 2002, through Wednesday, September 25, 2002, at the Department of Veterans Affairs Central Office, 810 Vermont Avenue NW., Room 430 Washington DC 20420. The meeting will convene daily at 8:30 a.m. and conclude Monday and Tuesday at 5 p.m. and Wednesday at 12 noon. The meeting is open to the public.

The purpose of the Committee is to provide direct assistance and advice to the Secretary of Veterans Affairs in the development and implementation of the chiropractic health program. Matters on which the Committee shall assist and advise the Secretary include protocols governing referrals to chiropractors, direct access to chiropractic care, scope of practice of chiropractic practitioners, definitions of services to be provided and such other matters as the Secretary determines to be appropriate.

On September 23, the Committee will convene its opening session with an overview of the mission and objectives of the Committee, an ethics briefing, and orientation briefings on requirements of the Federal Advisory Committee Act and other administrative matters. The Committee will also receive briefings from the Veterans Health Administration (VHA) on the current status of chiropractic care within VHA. On September 24, the Committee will receive briefings on human resources policies pertinent to the charge of the Committee and begin discussion of a work plan for the Committee and how to address of scope of practice issues. On September 25, the Committee will continue discussion on scope of practice of chiropractic practitioners and conclude with a discussion of action items for the Committee.

Any member of the public wishing to attend the meeting is requested to contact Ms. Sara McVicker, RN, MN, Committee Manager, at (202) 273-8558, no later than 2 days before the meeting in order to facilitate entry to the building. No time will be allocated at this meeting for receiving oral presentations from the public. However, the Committee will accept written comments from interested parties on issues affecting the development and implementation of the chiropractic health program within the Veterans Health Administration. Comments can be transmitted electronically to the Committee at sara.mcvicker@mail.va.gov or mailed to: Chiropractic Advisory Committee, Primary and Ambulatory Care SHG (112), U.S. Department of Veterans Affairs, 810 Vermont Avenue, NW., Washington, DC 20420.

Dated: August 23, 2002.
By Direction of the Secretary.
Ron Aument,
Deputy Chief of Staff.

[FR Doc. 02-22443 Filed 9-3-02; 8:45 am]

BILLING CODE 8320-01-M